DEPARTMENT OF COMMERCE

National Oceanic and Atmospheric Administration

[I.D. 091801C ]

Endangered and Threatened Species; Take of Anadromous Fish

AGENCY: National Marine Fisheries Service (NMFS), National Oceanic and Atmospheric Administration (NOAA), Commerce.

ACTION: Issuance of modification 2 to permit 1067.

SUMMARY: NMFS has issued modification 2 to permit 1067 to the California Department of Fish and Game (CDFG) that authorizes takes of Endangered Species Act-listed anadromous fish species for the purpose of scientific research and enhancement, subject to certain conditions set forth therein.

ADDRESSES: Copies of the permits may be obtained from Protected Resources Division, NMFS, 777 Sonoma Avenue, Room 325, Santa Rosa, California 95404-6528, Phone: (707) 575-6053, Fax: (707) 578-3434.

FOR FURTHER INFORMATION CONTACT: Daniel Logan, Protected Resources Division, NMFS, Santa Rosa, California, (707) 575-6053, e-mail: dan.logan@noaa.gov.

SUPPLEMENTARY INFORMATION: The following species and evolutionary significant units (ESUs) are covered in this notice:

Coho salmon (Oncorhynchus kisutch): Threatened, naturally produced and artificially propagated, Central California Coast (CCC), and naturally produced Southern Oregon/Northern California Coast (SONCC).

Permit Modifications Issued

Notice was published on May 10, 2001, that the CDFG applied for a modification to permit 1067 to take threatened CCC coho salmon, in addition to previously authorized takes of coho salmon. Modification 2 to Permit 1067 was issued on August 31, 2001, authorizing takes of adult and juvenile, threatened, CCC coho salmon for six scientific research and enhancement activities: (1) a pilot study to examine the efficacy of a captive broodstock program using naturally-produced coho salmon, (2) develop indexes of abundance, (3) carcass counts, (4) redd surveys, (5) acquisition of tissue and scale samples for genetic analysis; and (6) habitat quality evaluation.

The original permit authorized the CDFG to capture, handle, take tissues, and release up to 16,500 juvenile CCC coho salmon, and to take tissue samples from up to 1,000 adult CCC coho salmon. Indirect mortalities associated with the CDFG research activities were not to exceed 500 juvenile CCC coho salmon. Modification 1 of Permit 1067 contained only minor modifications to permit format and notification requirements, however, no changes in take limits.

For Modification 2, the following changes were incorporated into the take limits for the Permit: (1) the CDFG is authorized to capture, rear, and retain 300 juvenile CCC coho salmon for the purpose of developing an experimental captive broodstock; (2) the CDFG is authorized to release up to 200,000 ESA-listed juvenile CCC coho salmon derived from the pilot captive broodstock program; (3) the number of adult coho salmon carcasses that can be collected and sampled for tissues has been increased to 1,500 fish; (4) the number of indirect mortalities associated with research activities has been increased to 700 juvenile CCC coho salmon; and (5) the expiration date of Permit 1067 has been extended 5 years until June 30, 2007.

The issuance of the permit modifications and the new permit is based on a finding that such permits: (1) were applied for in good faith; (2) would not operate to the disadvantage of the listed species which are the subject of the permits; and (3) are consistent with the purposes and policies set forth in section 2 of the ESA.

Dated: October 24, 2001.
Margaret Lorenz,
Acting Chief, Endangered Species Division, Office of Protected Resources, National Marine Fisheries Service.

[FR Doc. 01-27311 Filed 10-29-01; 8:45 am]

BILLING CODE 3510-22-S